DEPARTMENT OF COMMERCE

National Telecommunications and Information Administration

Kids.us Forum: Developing a Safe Place on the Internet for Children

AGENCY: National Telecommunications and Information Administration, U.S. Department of Commerce

ACTION: Notice of Public Meeting

SUMMARY: The National Telecommunications and Information Administration (NTIA), U.S. Department of Commerce, will host a half-day forum, entitled “The kids.us Internet Domain: Developing a Safe Place on the Internet for Children.” The forum will address the current state of the kids.us domain and future content and applications for the space.

DATES: The Kids.us Forum will be held from 9:00 a.m. to 1:15 p.m. on Wednesday, July 14, 2004.

ADDRESSES: The Kids.us Forum will be held at the U.S. Department of Commerce, 1401 Constitution Avenue, N.W., Room 4830, Washington, D.C. (Entrance to the Department of Commerce is on 14th Street between Constitution and Pennsylvania Avenues.)

FOR FURTHER INFORMATION CONTACT: Sallianne Schagrin, Office of Policy Analysis and Development, NTIA, at (202) 482-1880, or electronic mail: sschagrin@ntia.doc.gov. Please direct media inquiries to the Office of Public Affairs, NTIA, at (202) 482-7002.

SUPPLEMENTARY INFORMATION: According to NTIA's 2002 report, A Nation Online, almost 60 percent of American children between the ages of 5 and 17 use the Internet. Ninety-nine percent of public schools in the United States had access to the Internet according to the U.S. Department of Education's National Center for Education Statistics as of fall 2002.

Internet access has benefitted children enormously by giving them new research tools and information sources, new avenues of expression, expanded and more collaborative learning opportunities, and connections to other communities. Parents want the Internet to be a place where children can access educational material and enjoy their experiences. Unfortunately, Internet access can also potentially expose children to unsafe content.

On December 4, 2002, President Bush signed into law HR 3833, the Dot Kids Implementation and Efficiency Act of 2002 (Dot Kids Act), giving parents and educators an additional tool to help protect children from these dangers. The Dot Kids Act required the Department of Commerce to modify the management of the .us country code top level domain to establish kids.us, a safe space on the Internet for our nation's children. The law also required NTIA to publicize the availability of the new domain and to educate parents regarding using the kids.us domain in combination with blocking and filtering technologies.

NTIA amended its contract with NeuStar, Inc., the private sector company which manages the .us country code top level domain, to establish kids.us and to monitor sites in the domain space for content and safety. NeuStar ensures that all content on kids.us websites is suitable for children under 13 years of age. Moreover, interactive services or hyperlinks that take a user outside of the kids.us domain are prohibited.

NeuStar launched general registrations for domain names in kids.us on September 4, 2003, and established a portal at www.kids.us to highlight websites in the space. Currently, kids.us is home to thirteen active websites. These websites showcase information about arts and entertainment, computers and technology, sports and recreation, science and government, and much more.

The purpose of the Kids.us Forum is to bring together technology experts, community and children's advocates, parents and educators and other interested parties to discuss the potential of the kids.us domain, and to assist would be users of the domain and prospective content providers in fulfilling their goals with the domain. The forum will consist of two panel discussions. The first panel will address the current state of kids.us, current uses of kids.us by parents and educators, future content and applications for kids.us, how kids.us can meet the needs of communities, and the interrelationship between kids.us and filtering and blocking technology, as well as other future technologies. Panelists will include representatives from online child-safety organizations, Congress, community groups, Internet filtering and blocking technology providers, and hardware and software developers. The second panel will address the process of developing a site in the kids.us domain, as well as lessons learned from current content providers, challenges for future content providers, and the resources available to assist would be content providers. Panelists will include representatives from current and prospective providers of content within the kids.us domain, foundations, and technology companies.

More information on the Kids.us Forum will be available on NTIA's web site at www.ntia.doc.gov/kidsdotusforum.

PUBLIC PARTICIPATION: The Kids.us Forum will be open to the public and press on a first-come, first-served basis. Space is limited. Due to security requirements and to facilitate entry to the Department of Commerce building, attendees must present photo identification and/or a U.S. Government building pass, if applicable, and should arrive at least one-half hour ahead of the panel sessions. The public meeting is physically accessible to people with disabilities. Any member of the public wishing to attend and requiring special services, such as sign language interpretation or other ancillary aids, should contact Sallianne Schagrin at (202) 482-1880 or at sschagrin@ntia.doc.gov at least three (3) days prior to the meeting.

Dated: May 28, 2004.
Kathy D. Smith,
Chief Counsel, National Telecommunications and Information Administration.

[FR Doc. 04-12651 Filed 6-3-04; 8:45 am]

BILLING CODE 3510-60-S